DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS).

Time and Date:

September 25, 2002—9 a.m.-6 p.m.

September 26, 2002—9 a.m.-2 p.m.

Place: Quality Hotel—Arlington, 1200 North Courthouse Road, Arlington, Virginia 22201.

Status: Open.

Purpose: At this meeting the Committee will hear presentations and hold discussions on several health data policy topics. On the first day the full Committee will hear updates and status reports from the Department on several topics including the Consolidated Health Informatics effort and the HHS Strategic Plan. There will also be a discussion of the Executive Subcommittee's report on Committee operation and strategy based on that Subcommittee's recent retreat. There will be Subcommittee breakout sessions late in the afternoon of the first day and prior to the full Committee meeting on the second day. Agendas for these breakout sessions may be found on the NCVHS Web site (URL below). On the second day the Committee will hear reports from each Subcommittee. Finally, the agendas for future NCVHS meetings will be discussed.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of HHS Web site: http://www.ncvhs.hhs.gov/, where further information including an agenda will be posted when available.

Dated: September 5, 2002.
James Scanlon,
Director, Division of Data Policy, Office of the Assistant Secretary for Planning and Evaluation.

[FR Doc. 02-23147 Filed 9-11-02; 8:45 am]

BILLING CODE 4151-05-M